DEPARTMENT OF THE INTERIOR

Bureau of Reclamation

Pick-Sloan Missouri Basin Program, Eastern and Western Division Proposed Project Use Power Rate

AGENCY: Bureau of Reclamation, Interior.

ACTION: Notice of extension of time for comments concerning the proposed Pick-Sloan Missouri Basin Program, Eastern and Western Divisions, Project Use Power Rate Adjustments.

SUMMARY: The Bureau of Reclamation (Reclamation) is proposing a rate adjustment (proposed rate) for Project Use Power for the Pick-Sloan Missouri Basin Program (P-SMBP), Eastern and Western Division. The proposed rate for Project Use Power is set to recover all annual operating, maintenance, and replacement expenses on the Pick-Sloan power system. The analysis of the proposed Project Use Power Rate is included in a booklet available upon request. The proposed rate for Project Use Power will become effective October 1, 2005.

This notice provides the opportunity for public comment. After review of comments received, Reclamation will consider them, revise the rates if necessary, and recommend a proposed rate for approval to the Assistant Secretary of Water and Science.

DATES: The comment period will be extended through July 31, 2005.

ADDRESSES: Written comments should be sent to Kerry McCalman, GP-2020, Power O&M Administrator, Bureau of Reclamation, P.O. Box 26900, Billings, MT 59107-6900.

All booklets, studies, comments, letters, memoranda, and other documents made or kept by Reclamation for the purpose of developing the proposed rate for Project Use Power will be made available for inspection and copying at the Great Plains Regional Office, located at 316 North 26th Street, Billings, Montana 59107-6900.

FOR FURTHER INFORMATION CONTACT: Kerry McCalman, Bureau of Reclamation, Great Plains Regional Office, at (406) 247-7705 or by e-mail at kmccalman@gp.usbr.gov.

SUPPLEMENTARY INFORMATION:

Proposed Rate Adjustment

Power rates for the P-SMBP are established pursuant to the Reclamation Act of 1902 (43 U.S.C. 371 et seq.), as amended and supplemented by subsequent enactments, particularly section 9(c) of the Reclamation Project Act of 1939 (43 U.S.C. 485h(c)) and the Flood Control Act of 1944 (58 Stat. 887).

Beginning October 1, 2005, Reclamation proposes to:

(a) Increase the energy charge from 10.76 mills/kWh to 12.55 mills/kWh

(b) the monthly demand charge will remain at zero.

The Project Use Power rate will be reviewed each time Western Area Power Administration (Western) adjusts the P-SMBP Firm power rate. Western will conduct the necessary studies and use the methodology identified in this rate proposal to determine a new rate.

Dated: June 3, 2005,
Jaralyn Beek,
Acting Regional Director, Great Plains Regions.

[FR Doc. 05-12636 Filed 6-24-05; 8:45 am]

BILLING CODE 4310-MN-M